DEPARTMENT OF COMMERCE

Foreign-Trade Zones Board

[B-62-2013]

Foreign-Trade Zone (FTZ) 196—Fort Worth, Texas; Notification of Proposed Production Activity; Flextronics International USA, Inc. (Mobile Phone Assembly and Kitting); Fort Worth, Texas

Flextronics International USA, Inc. (Flextronics) submitted a notification of proposed production activity to the FTZ Board for its facility in Fort Worth, Texas. The notification conforming to the requirements of the regulations of the FTZ Board (15 CFR 400.22) was received on June 14, 2013.

The Flextronics facility is located within Site 2 of FTZ 196. The facility is used for the assembly, kitting, programming, testing, packaging, warehousing and distribution of mobile phones. Pursuant to 15 CFR 400.14(b), FTZ activity would be limited to the specific foreign-status materials and components and specific finished products described in the submitted notification (as described below) and subsequently authorized by the FTZ Board.

Production under FTZ procedures could exempt Flextronics from customs duty payments on the foreign status components used in export production. On its domestic sales, Flextronics would be able to choose the duty rates during customs entry procedures that apply to cell phones or mobile handsets (duty-free) for the foreign status inputs noted below. Customs duties also could possibly be deferred or reduced on foreign status production equipment.

The components and materials sourced from abroad include: labels, battery adhesives, decals, Kevlar protective liners, mesh gaskets, holsters with swivels, leather carrying cases, leather pouches/cases, plastic carrying cases, wrist straps, screws, power supplies, nickel/cadmium batteries, lithium/ion batteries, other batteries, antenna assemblies, audio flex assemblies, bridge flex assemblies, interplex assembly chassis, back assembly covers, sidekey assemblies, phone camera assemblies, phone camera lens assemblies, phone camera lens housing assemblies, phone transceiver assemblies, printed circuit board assemblies, rear phone housing assemblies, phone side key brackets, volume buttons, grommets, phone rigidizer housings, plastic phone housings, microphones, power key buttons, protective liners, speaker earpieces, external speaker sets, headsets with microphones, hands-free speaker sets, mobile phones, housing assemblies, connectors, boards, flash flex assemblies and cables (duty rate ranges from duty-free to 8.6%).

Public comment is invited from interested parties. Submissions shall be addressed to the Board's Executive Secretary at the address below. The closing period for their receipt is August 5, 2013.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

FOR FURTHER INFORMATION CONTACT: Elizabeth Whiteman at Elizabeth.Whiteman@trade.gov or (202) 482-0473.

Dated: June 18, 2013.
Elizabeth Whiteman,
Acting Executive Secretary.

[FR Doc. 2013-15013 Filed 6-21-13; 8:45 am]

BILLING CODE 3510-DS-P